FEDERAL COMMUNICATIONS COMMISSION

Deletion of Agenda Item From June 10, 2004, Open Meeting

June 9, 2004.

The following item has been deleted from the list of Agenda items scheduled for consideration at the June 10, 2004, Open Meeting and previously listed in the Commission's Notice of June 3, 2004.

6 | Wireline Competition | Title: Review of the Section 251 Unbundling Obligations for Incumbent Local Exchange Carriers (CC Docket No. 01-338); Implementation of the Local Competition Provisions of the Telecommunications Act of 1996 (CC Docket No. 96-98); and Deployment of Wireline Services Offering Advanced Telecommunications Capability (CC Docket No. 98-147).
|  | Summary: The Commission will consider an Order on Reconsideration concerning requests from BellSouth and Sure West to reconsider and/or clarify unbundling obligations relating to multiple dwelling units and the network modification rules.

Federal Communications Commission.
Marlene H. Dortch,
Secretary.

[FR Doc. 04-13568 Filed 6-10-04; 1:18 pm]

BILLING CODE 6712-01-P